DEPARTMENT OF THE INTERIOR

Fish and Wildlife Service

[FWS-R8-ES-2021-N163; FXES11140800000-212-FF08EVEN00]

Draft Habitat Conservation Plan and Draft Categorical Exclusion for the Vintage Ranch Project; Santa Barbara County, California

AGENCY: Fish and Wildlife Service, Interior.

ACTION: Notice of availability; request for comments.

SUMMARY: We, the U.S. Fish and Wildlife Service (Service), announce the availability of a draft habitat conservation plan (HCP) and draft categorical exclusion screening form for activities described in an application for an incidental take permit (ITP) under the Endangered Species Act of 1973, as amended. The ITP would authorize take of a listed species incidental to construction of a residential development in the community of Orcutt within Santa Barbara County, California. The applicants developed the draft HCP in support of their application for an ITP. The Service prepared a draft categorical exclusion screening form in accordance with the National Environmental Policy Act to evaluate the potential effects to the natural and human environment resulting from issuing an ITP to the applicants. We invite public comment on these documents.

DATES: Written comments should be received on or before July 26, 2021.

ADDRESSES: To obtain documents: You may download a copy of the draft HCP and categorical exclusion screening form at http://www.fws.gov/ventura/, available in “Latest News Stories” under the “News Room” tab, or you may request copies of the documents by sending U.S. mail to our Ventura office (address below), or by phone (see FOR FURTHER INFORMATION CONTACT).

To submit written comments: Please send us your written comments by one of the following methods:

• U.S. mail: Stephen P. Henry, Field Supervisor, Ventura Fish and Wildlife Office, U.S. Fish and Wildlife Service, 2493 Portola Road, Suite B, Ventura, CA 93003.

• Email: rachel_henry@fws.gov.

FOR FURTHER INFORMATION CONTACT: Rachel Henry, Biologist, by email, via the Federal Relay Service at 1-800-877-8339 for TTY assistance, or by mail to the Ventura Fish and Wildlife office (by mail; see ADDRESSES).

SUPPLEMENTARY INFORMATION: We, the U.S. Fish and Wildlife Service (Service), announce the availability of a draft habitat conservation plan (HCP), and associated draft categorical exclusion screening form, submitted by Vintage Ranch Orcutt, LLC (applicant) with an application for an ITP. The permit would authorize take of the federally endangered Santa Barbara County distinct population segment (DPS) of the California tiger salamander (Ambystoma californiense) incidental to activities described in the HCP for the construction of an approximately 15-acre residential development within a 33-acre lot in the community of Orcutt within Santa Barbara County, California. The applicant developed a draft HCP as part of their application for an ITP under section 10(a)(1)(B) of the Endangered Species Act of 1973, as amended (ESA; 16 U.S.C. 1531 et seq.). The Service prepared a draft categorical exclusion screening form in accordance with the National Environmental Policy Act of 1969 (NEPA; 42 U.S.C. 4321 et seq.) to evaluate the potential effects to the natural and human environment resulting from issuing an ITP to the applicants. We invite public comment on these documents.

Background

The Service listed the Santa Barbara County DPS of the California tiger salamander as endangered on September 21, 2000 (65 FR 57242). Section 9 of the ESA prohibits take of fish and wildlife species listed as endangered (16 U.S.C. 1538). Under the ESA, “take” is defined to include the following activities: “to harass, harm, pursue, hunt, shoot, wound, kill, trap, capture, or collect, or to attempt to engage in any such conduct” (16 U.S.C. 1532). Under section 10(a)(1)(B) of the ESA (16 U.S.C. 1539(a)(1)(B)), we may issue permits to authorize take of listed fish and wildlife species that is incidental to, and not the purpose of, carrying out an otherwise lawful activity. Regulations governing incidental take permits for endangered species are in the Code of Federal Regulations (CFR) at 50 CFR 17.22. Issuance of an ITP also must not jeopardize the existence of federally listed fish, wildlife, or plant species, pursuant to section 7 of the ESA and 50 CFR 402.02. The permittee would receive assurances under our “No Surprises” regulations (50 CFR 17.22(b)(5)).

Applicants' Proposed Activities

The applicant has applied for a 20-year term permit for incidental take of the Santa Barbara County DPS of the California tiger salamander. The take would occur in association with the construction of a residential development and associated activities such as vegetation removal, site grubbing, and grading for proposed development. The proposed development and all associated disturbance areas would be sited on approximately 15 acres of a 33-acre property.

The HCP includes avoidance and minimization measures for the Santa Barbara County DPS of the California tiger salamander and mitigation for unavoidable loss of habitat. As mitigation for habitat loss, the applicant proposes to purchase credits from a Service-approved mitigation bank.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the ESA (16 U.S.C. 1531 et seq.) and its implementing regulations (50 CFR 17.22) and NEPA (42 U.S.C. 4321 et seq.) and its implementing regulations (40 CFR 1506.6).

Stephen Henry,
Field Supervisor, Ventura Fish and Wildlife Office, Ventura, California.

[FR Doc. 2021-13518 Filed 6-24-21; 8:45 am]

BILLING CODE 4333-15-P